POSTAL SERVICE

International Product Change—GEPS 11 Contracts

AGENCY: Postal Service™.

ACTION: Notice.

SUMMARY: The Postal Service gives notice of filing a request with the Postal Regulatory Commission to add Global Expedited Package Services 11 to the Competitive Products List.

DATES: Date of notice: May 1, 2019.

FOR FURTHER INFORMATION CONTACT: Christopher C. Meyerson, (202) 268-7820.

SUPPLEMENTARY INFORMATION: The United States Postal Service® hereby gives notice that, pursuant to 39 U.S.C. 3642, on April 24, 2019, it filed with the Postal Regulatory Commission a Request of The United States Postal Service to add Global Expedited Package Services 11 to the Competitive Products List. Documents are available at www.prc.gov, Docket Nos. MC2019-132 and CP2019-142.

Christopher C. Meyerson
Attorney, Corporate and Postal Business Law.

[FR Doc. 2019-08769 Filed 4-30-19; 8:45 am]

BILLING CODE 7710-12-P